SMALL BUSINESS ADMINISTRATION

[Disaster Declaration # 10180 and # 10181]

Alabama Disaster Number AL-00003

AGENCY: U.S. Small Business Administration.

ACTION: Amendment 1.

SUMMARY: This is an amendment of the Presidential declaration of a major disaster for the State of Alabama (FEMA-1605-DR), dated 08/29/2005.

Incident: Hurricane Katrina.

Incident Period: 08/29/2005 and continuing.

Effective Date: 09/08/2005.

Physical Loan Application Deadline Date: 10/28/2005.

EIDL Loan Application Deadline Date: 05/29/2006.

ADDRESSES: Submit completed loan applications to: U.S. Small Business Administration, Disaster Area Office 3, 14925 Kingsport Road Fort Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the State of Alabama, dated 08/29/2005, is hereby amended to include the following areas as adversely affected by the disaster:

Primary Counties:

Choctaw, Clarke, Greene, Hale, Pickens, Sumter, Tuscaloosa.

Contiguous Counties:

Alabama, Bibb, Fayette, Jefferson, Lamar, Marengo, Perry, Walker, Wilcox.

Mississippi, Clarke, Kemper, Lauderdale, Lowndes, Noxubee.

All other information in the original declaration remains unchanged.

(Catalog of Federal Domestic Assistance Numbers 59002 and 59008)
Herbert L. Mitchell,
Associate Administrator for Disaster Assistance.

[FR Doc. 05-18436 Filed 9-15-05; 8:45 am]

BILLING CODE 8025-01-P